DEPARTMENT OF COMMERCE

National Oceanic and Atmospheric Administration

RIN: 0648-XK88

Gulf of Mexico Fishery Management Council (Council); Public Meetings

AGENCY: National Marine Fisheries Service (NMFS), National Oceanic and Atmospheric Administration (NOAA), Commerce.

ACTION: Notice of a public meeting.

SUMMARY: The Gulf of Mexico Fishery Management Council to convene its Standing SSC via conference call.

DATES: The conference call will be held October 21, 2008, at 9:30 a.m. EDT.

ADDRESSES: The meeting will be held via conference call and listening stations will be available. For specific locations, see SUPPLEMENTARY INFORMATION.

Council address: Gulf of Mexico Fishery Management Council, 2203 North Lois Avenue, Suite 1100, Tampa, FL 33607.

FOR FURTHER INFORMATION CONTACT: Dr. Richard Leard, Interim Executive Director, Gulf of Mexico Fishery Management Council; telephone: (813) 348-1630.

SUPPLEMENTARY INFORMATION: The Standing SSC will discuss and develop recommendations for the Council on a 5-year research plan for fisheries managed by the Council. Once approved by the Council at its October 2008 meeting, the 5-year research plan will be submitted to the NMFS for implementation and funding.

Although other non-emergency issues not on the agenda may come before the Standing SSC for discussion, in accordance with the Magnuson-Stevens Fishery Conservation and Management Act (Magnuson-Stevens Act), those issues may not be the subject of formal action during the meeting. Actions will be restricted to the issue specifically identified in the agenda and any issues arising after publication of this notice that require emergency action under Section 305(c) of the Magnuson-Stevens Act, provided the public has been notified of the Standing SSC's intent to take action to address the emergency.

The conference call will begin at 9:30 a.m. EDT and conclude no later than 12:30 p.m. EDT. Listening stations are available at the following locations:

The Gulf Council office (see ADDRESSES), and the National Marine Fisheries Service (NMFS) offices as follows:

St. Petersburg, FL

263 13th Ave. S., St Petersburg, FL 33701, Contact: Karolyn Potter, telephone: (727) 551-5705;

Miami, FL

75 Virginia Beach Dr., Miami, FL 33149, Contact: Sonia Prevo, telephone: (305) 361-4200; and

Panama City, FL

3500 Delwood Beach Rd., Panama City, FL 32408, Contact: Janice Hamm, telephone: (850) 234-6541.

Special Accommodations

The listening stations are physically accessible to people with disabilities. Requests for sign language interpretation or other auxiliary aids should be directed to Tina O'Hern at the Council (see ADDRESSES) at least 5 working days prior to the meeting.

Dated: October 1, 2008.
Tracey L. Thompson,
Acting Director, Office of Sustainable Fisheries, National Marine Fisheries Service.

[FR Doc. E8-23546 Filed 10-3-08; 8:45 am]

BILLING CODE 3510-22-S